COMMISSION ON CIVIL RIGHTS

Notice of Public Briefings of the New York Advisory Committee to the U.S. Commission on Civil Rights

AGENCY: U.S. Commission on Civil Rights.

ACTION: Notice of virtual briefings.

SUMMARY: Notice is hereby given, pursuant to the provisions of the rules and regulations of the U.S. Commission on Civil Rights (Commission) and the Federal Advisory Committee Act that the New York Advisory Committee (Committee) to the U.S. Commission on Civil Rights will hold virtual briefings. The purpose of these briefings is to hear testimony on the New York child welfare system.

DATES: Wednesday, February 15, 2023, at 1 p.m. (ET) and Friday, February 17, 2023, at 1 p.m. (ET).

ADDRESSES: Meetings will be held via Zoom.

Registration Link: https://tinyurl.com/2sefj27t

Join by Phone (Audio Only): Dial (833) 435-1820 USA Toll-Free; Webinar ID: 160 065 6097#

FOR FURTHER INFORMATION CONTACT: Mallory Trachtenberg, DFO, at mtrachtenberg@usccr.gov or (202) 809-9618.

SUPPLEMENTARY INFORMATION: Committee meetings are available to the public through the conference link above. Any interested member of the public may listen to the meeting. An open comment period will be provided to allow members of the public to make a statement as time allows. If joining via phone, callers can expect to incur regular charges for calls they initiate over wireless lines, according to their wireless plan. The Commission will not refund any incurred charges. Individuals who are deaf, deafblind, and hard of hearing may also follow the proceedings by first calling the Federal Relay Service at (800) 877-8339 and providing the Service with the conference details found through registering at the web link above. To request additional accommodations, please email Sarah Villanueva at svillanueva@usccr.gov at least ten (10) days prior to the meeting.

Members of the public are also entitled to submit written comments; the comments must be received within 30 days following the meeting. Written comments may be emailed to svillanueva@usccr.gov. Persons who desire additional information may contact the Regional Programs Coordination Unit at (202) 809-9618.

Records generated from this meeting may be inspected and reproduced at the Regional Programs Coordination Unit as they become available, both before and after the meeting. Records of the meeting will be available via www.facadatabase.gov under the Commission on Civil Rights, New York Advisory Committee link. Persons interested in the work of this Committee are directed to the Commission's website, http://www.usccr.gov, or may contact the Regional Programs Coordination Unit at the above phone number.

Agenda

I. Welcome Remarks

II. Panelist Presentations

III. Committee Q&A

IV. Public Comment

V. Closing Remarks

VI. Adjournment

Dated: January 20, 2023.
David Mussatt,
Supervisory Chief, Regional Programs Unit.

[FR Doc. 2023-01528 Filed 1-25-23; 8:45 am]

BILLING CODE P